DEPARTMENT OF TRANSPORTATION

Federal Aviation Administration

14 CFR Part 39

[Docket No. FAA-2007-27193; Directorate Identifier 2007-CE-009-AD]

RIN 2120-AA64

Airworthiness Directives; Viking Air Limited (Type Certificate No. A-806 Previously Held by deHavilland Inc.) Models DHC-2 Mk. I, DHC-2 Mk. II, and DHC-2 Mk. III Airplanes

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

A report has been received of stress corrosion cracking occurring in the wing lift strut lower clevis fitting, part number C2W-1097A.

The proposed AD would require actions that are intended to address the unsafe condition described in the MCAI.

DATES: We must receive comments on this proposed AD by April 23, 2007.

ADDRESSES: You may send comments by any of the following methods:

• DOT Docket Web site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5227) is in the ADDRESSES section. Comments will be available in the AD docket shortly after receipt.

FOR FURTHER INFORMATION CONTACT: George J. Duckett, Aerospace Engineer, FAA, New York Aircraft Certification Office, 10 Fifth Street, Valley Stream, New York 11581; telephone: (516) 228-7325; fax: (516) 794-5531.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2007-27193; Directorate Identifier 2007-CE-009-AD” at the beginning of your comments. We specifically invite comments on the overall regulatory, economic, environmental, and energy aspects of this proposed AD. We will consider all comments received by the closing date and may amend this proposed AD because of those comments.

We will post all comments we receive, without change, to http://dms.dot.gov, including any personal information you provide. We will also post a report summarizing each substantive verbal contact we receive about this proposed AD.

Discussion

We issued AD 88-08-02, Amendment 39-5889, to address an unsafe condition on the products listed above.

Since we issued AD 88-08-02, additional airplanes have been identified that need to be added to the Applicability section. Viking Air Limited has issued Revision C to Service Bulletin No. 2/41 that changes the inspection method from dye penetrant to fluorescent penetrant. Viking Air Limited has also issued Service Bulletin 2/55 that allows for eddy current inspections, which extend the repetitive inspection intervals.

Transport Canada, which is the aviation authority for Canada, has issued AD No. CF-1985-08R4, dated September 28, 2006 (referred to after this as “the MCAI”), to correct an unsafe condition for the specified products. The MCAI states:

A report has been received of stress corrosion cracking occurring in the wing lift strut lower clevis fitting, part number C2W-1097A.

The MCAI requires:

This AD revision is being issued to allow operators the option of continuing with the existing inspection intervals in accordance with CF-85-08R3 (Part A) or incorporating the improved alternate inspection method in accordance with Part B, to permit an increase in inspection intervals.

You may obtain further information by examining the MCAI in the AD docket.

Relevant Service Information

Viking Air Limited has issued Service Bulletin S/B No. 2/41, Revision “C”, dated June 23, 2006; and Service Bulletin No. 2/55, dated June 23, 2006. The actions described in these service bulletins are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 392 products of U.S. registry. We also estimate that it would take about 7 work-hours per product to comply with the basic requirements of this proposed AD. The average labor rate is $80 per work-hour.

Based on these figures, we estimate the cost of the proposed AD on U.S. operators to be $219,520, or $560 per product.

In addition, we estimate that any necessary follow-on actions would take about 7 work-hours and require parts costing $6,227 for each wing strut assembly, for a cost of $6,787 per wing strut assembly. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 88-08-02, Amendment 39-5889, and adding the following new AD:

Viking Air Limited (Type Certificate No. A-806 previously held by deHavilland Inc.): Docket No. FAA-2007-27193; Directorate Identifier 2007-CE-009-AD.

Comments Due Date

(a) We must receive comments by April 23, 2007.

Affected ADs

(b) None.

Applicability

(c) This AD applies to Models DHC-2 Mk. I, DHC-2 Mk. II, and DHC-2 Mk. III airplanes, all serial numbers, that:

(1) Are certificated in any category; and

(2) Are equipped with wing lift strut assemblies, part numbers (P/Ns) C2W1103, C2W1103A, C2W1104, or C2W1104A.

Subject

(d) Air Transport Association of America (ATA) Code 57: Wings.

Reason

(e) The mandatory continuing airworthiness information (MCAI) states:

A report has been received of stress corrosion cracking occurring in the wing lift strut lower clevis fitting, part number C2W-1097A.

Retained Requirements of AD 88-08-02

(f) For all Models DHC-2 Mk. I and DHC-2 Mk. III airplanes certificated in any category that are equipped with wing lift strut assemblies, P/Ns C2W1103, C2W1103A, C2W1104, or C2W1104A: Within 100 hours time-in-service (TIS) or one month after May 11, 1988 (the effective date of AD 88-08-02), whichever occurs first, and thereafter at intervals not to exceed 500 hours TIS or 12 calendar months, whichever occurs first:

(1) Remove wing strut assemblies, C2W1103 or C2W1103A and C2W1104 or C2W1104A from the airplane and prepare the assemblies for inspection as described in the “ACCOMPLISHMENT INSTRUCTIONS” section of DeHavilland Service Bulletin (S/B) No. 2/41, Revision A, dated August 14, 1987.

(2) Conduct a dye penetrant inspection with a 10-power glass for cracks in the lugs of the lower attachment clevis fitting.

(3) If cracks are found, prior to further flight replace the complete strut assembly with a strut assembly of the same part number that has had the lower clevis fitting inspection using the dye penetrant procedure and has been found free of cracks, or strut assembly C2W1115-1 or C2W1115-2, as appropriate.

(4) If no cracks are found, clean the lower clevis fitting and reinstall the wing strut assembly.

(5) If wing strut assembly C2W1115-1 or C2W1115-2 is installed, the recurring inspection specified in paragraph (f) of this AD is no longer required.

New Requirements of This AD: Actions and Compliance

(g) Unless already done, do either (1) or (2) of the following actions:

(1) Inspection using fluorescent penetrant method: Perform the Accomplishment Instructions of Viking Air Ltd. Service Bulletin No. 2/41, Revision C, dated June 23, 2006.

(i) For airplanes previously affected by AD 88-08-02: Inspect within 12 calendar months after the last inspection required by AD 88-08-02 or within 30 days after the effective date of this AD, whichever occurs later, and thereafter at intervals not to exceed 12 calendar months.

(ii) For airplanes not previously affected by AD 88-08-02: Inspect within the next 100 hours time-in-service (TIS) or 12 calendar months after the effective date of this AD, whichever occurs first, and thereafter at intervals not to exceed 12 calendar months.

(2) Inspection using eddy current method: Perform the Accomplishment Instructions of Viking Air Ltd. SB No. 2/55, dated June 23, 2006.

(i) For airplanes previously affected by AD 88-08-02: Inspect within 12 calendar months after the last inspection required by AD 88-08-02 or within 30 days after the effective date of this AD, whichever occurs later, and thereafter at intervals not to exceed 24 calendar months.

(ii) For airplanes not previously affected by AD 88-08-02: Inspect within 100 hours TIS or 12 calendar months after the effective date of this AD, whichever occurs first, and thereafter at intervals not to exceed 24 calendar months.

(3) If cracks are found during any inspection required by either paragraph (g)(1) or (g)(2) of this AD, before further flight:

(i) Replace the complete strut assembly with a strut assembly of the same part number that has had the lower clevis fitting inspected using either the fluorescent penetrant method specified in paragraph (g)(1) of this AD or the eddy current method specified in paragraph (g)(2) of this AD and is found free of cracks; or

(ii) Replace the complete strut assembly with strut assembly C2W1115-1 or C2W1115-2, as appropriate. Installing wing strut assembly C2W1115-1 or C2W1115-2 as replacement parts terminates the recurring inspections required in paragraphs (g)(1) and (g)(2) of this AD.

FAA AD Differences

Note: This AD differs from the MCAI and/or service information as follows: No differences.

Other FAA AD Provisions

(h) The following provisions also apply to this AD:

(1) Alternative Methods of Compliance (AMOCs): The Manager, New York Aircraft Certification Office, FAA, ATTN: George J. Duckett, Aerospace Engineer, 10 Fifth Street, Valley Stream, New York 11581; telephone: (516) 228-7325; fax (516) 794-5531, has the authority to approve AMOCs for this AD, if requested using the procedures found in 14 CFR 39.19. Before using any approved AMOC on any airplane to which the AMOC applies, notify your appropriate principal inspector (PI) in the FAA Flight Standards District Office (FSDO), or lacking a PI, your local FSDO.

(2) AMOCs approved for AD 88-08-02 are not approved for this AD.

(3) Airworthy Product: For any requirement in this AD to obtain corrective actions from a manufacturer or other source, use these actions if they are FAA-approved. Corrective actions are considered FAA-approved if they are approved by the State of Design Authority (or their delegated agent). You are required to assure the product is airworthy before it is returned to service.

(4) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Transport Canada AD CR-1985-08R4, dated September 28, 2006; and Viking Air Limited Service Bulletin S/B No. 2/41, Revision “C”, dated June 23, 2006; and Service Bulletin No. 2/55, dated June 23, 2006; for related information.

Issued in Kansas City, Missouri, on March 15, 2007.
David R. Showers,
Manager, Small Airplane Directorate, Aircraft Certification Service.

[FR Doc. E7-5215 Filed 3-21-07; 8:45 am]

BILLING CODE 4910-13-P